DEPARTMENT OF HOUSING AND URBAN DEVELOPMENT

[Docket No. FR 6453-N-01]

Announcement of Tenant Protection Voucher Funding Awards for Fiscal Year 2023 for the Housing Choice Voucher Program

AGENCY: Office of the Assistant Secretary for Public and Indian Housing, HUD.

ACTION: Notice of fiscal year 2023 awards.

SUMMARY: In accordance with the Department of Housing and Urban Development Reform Act of 1989, this document notifies the public of Tenant Protection Voucher (TPV) funding awards for fiscal year (FY) 2023 to public housing agencies (PHAs) under the Section 8 Housing Choice Voucher Program (HCVP). The purpose of this notice is to publish the names, addresses of awardees, and the amount of their non-competitive funding awards for assisting households affected by housing conversion actions, public housing relocations and replacements, and moderate rehabilitation replacements. This notice also includes a link to the TPV awards issued since FY 2020, which can be sorted by PHAs, project name and identification number, by category of TPVs such as Multifamily or Public Housing, and by state and by HUD regions.

FOR FURTHER INFORMATION CONTACT: Danielle L. Bastarache, Deputy Assistant Secretary, Office of Public Housing and Voucher Programs, Office of Public and Indian Housing, Department of Housing and Urban Development, 451 Seventh Street SW, Room 4204, Washington, DC 20410-5000, telephone (202) 402-1380. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The regulations governing the HCVP are published at 24 CFR 982. The purpose of the rental assistance program is to assist eligible families to pay their rent for decent, safe, and sanitary housing in the private rental market.

The FY 2023 awardees announced in this notice were provided HCVP tenant protection vouchers (TPVs) funds on an as-needed, non-competitive basis. TPV awards made to PHAs for program actions that displace families living in public housing were made on a first-come, first-served basis in accordance with PIH Notice 2018-04, “Voucher Funding in Connection with the Demolition or Disposition of Occupied Public Housing Units.” In addition, TPV awards for actions such as section 8 project-based contract expirations and terminations were made in accordance with PIH Notice 2022-14, “Implementation of the Federal Fiscal Year (FFY) 2022 Funding Provisions for the Housing Choice Voucher Program.” Lastly, awards for certain project under the Second Component of the Rental Assistance Demonstration were provided consistent with PIH Notice H-2020-09 PIH-2020-23(HA), REV-4, “Rental Assistance Demonstration-Final Implementation, Revision 4.” Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (RAD—Second Component); (5) to provide replacement housing assistance for single room occupancy (SRO) units that fail housing quality standards (HQS); and (6) to assist families in Public Housing developments that received HUD approval for the following actions: (a) units scheduled for demolition or disposition approved under section 18, (b) required conversions approved under section 33, (c) voluntary conversions approved under section 22, (d) homeownership plans approved under section 32, (e) removals authorized under Choice Neighborhood, and (f) public housing developments in connection with a HUD-approved HOPE VI revitalization or demolition grant.

A special administrative fee of $200 per occupied unit was provided to PHAs to compensate for any extraordinary HCVP administrative costs associated with the Multifamily Housing conversion actions.

The Department awarded new budget authority in the amount of $139,642,219 to recipients under all the above-mentioned categories for 12,694 housing choice vouchers. For further information about these TPV awards, and for awards since FY 2020, please use the TPV Dashboard log using this link: https://www.hud.gov/program_offices/public_indian_housing/programs/hcv/fmd. You can sort the awards by PHA, project name and identification number, and by state and HUD regions.

In accordance with section 102(a)(4)(C) of the Department of Housing and Urban Development Reform Act of 1989 (103 Stat. 1987, 42 U.S.C. 3545), the Department is publishing the names, addresses of awardees, and their award amounts in appendix A. The awardees are listed alphabetically by State for each type of TPV award.

Dominique Blom,
General Deputy Assistant Secretary for Public and Indian Housing.

BILLING CODE 4210-67-P

[FR Doc. 2024-08440 Filed 4-18-24; 8:45 am]

BILLING CODE 4210-67-C